DEPARTMENT OF COMMERCE

International Trade Administration

[A-412-826, A-469-816, A-475-836, A-489-831, A-520-808, A-580-891, A-791-823, A-821-824, A-822-806, A-823-816]

Carbon and Certain Alloy Steel Wire Rod From Belarus, Italy, the Republic of Korea, the Russian Federation, the Republic of South Africa, Spain, the Republic of Turkey, Ukraine, the United Arab Emirates, and the United Kingdom: Final Results of Expedited First Sunset Reviews of Antidumping Duty Orders

AGENCY: Enforcement and Compliance, International Trade Administration, Department of Commerce.

SUMMARY: As a result of these expedited sunset reviews, the U.S. Department of Commerce (Commerce) finds that revocation of the antidumping duty (AD) orders on carbon and certain alloy steel wire rod (steel wire rod) from Belarus, Italy, the Republic of Korea (Korea), the Russian Federation (Russia), the Republic of South Africa (South Africa), Spain, the Republic of Turkey (Turkey), Ukraine, the United Arab Emirates (UAE), and the United Kingdom would be likely to lead to the continuation or recurrence of dumping at the dumping margins identified in the “Final Results of Reviews” section of this notice.

DATES: Applicable March 15, 2023.

FOR FURTHER INFORMATION CONTACT: Macey Mayes, AD/CVD Operations, Enforcement and Compliance, International Trade Administration, U.S. Department of Commerce, 1401 Constitution Avenue NW, Washington, DC 20230; telephone: (202) 482-4473.

SUPPLEMENTARY INFORMATION:

Background

On December 1, 2022, Commerce published the notice of initiation of the first sunset reviews of the AD orders on steel wire rod from Belarus, Italy, Korea, Russia, South Africa, Spain, Turkey, Ukraine, the UAE, and the United Kingdom pursuant to section 751(c) of the Tariff Act of 1930, as amended (the Act).¹ On December 14 and 15, 2022, Charter Steel, Commercial Metals Company, Liberty Steel USA, Nucor Corporation, and Optimus Steel LLC (collectively, the domestic interested parties), notified Commerce of their intent to participate within the 15-day period specified in 19 CFR 351.218(d)(1)(i).² The domestic interested parties claimed interested party status under section 771(9)(C) of the Act, as producers of the domestic like product in the United States.

¹ See Initiation of Five-Year (Sunset) Reviews, 87 FR 73757 (December 1, 2022) (Notice of Initiation); see also Carbon and Alloy Steel Wire Rod from Belarus, the Russian Federation, and the United Arab Emirates: Antidumping Duty Orders, 83 FR 3297 (January 24, 2018), as corrected in Carbon and Alloy Steel Wire Rod from Belarus, the Russian Federation, and the United Arab Emirates: Notice of Correction to Antidumping Duty Orders, 83 FR 5402 (February 7, 2018) (correcting one of the Harmonized Tariff Schedule of the United States (HTSUS) numbers listed in the scope); Carbon and Alloy Steel Wire Rod from Italy, the Republic of Korea, Spain, the Republic of Turkey, and the United Kingdom: Antidumping Duty Orders and Amended Final Affirmative Antidumping Duty Determinations for Spain and the Republic of Turkey, 83 FR 23417 (May 21, 2018); and Carbon and Alloy Steel Wire Rod from the Republic of South Africa and Ukraine: Antidumping Duty Orders, 83 FR 11175 (March 14, 2018) (collectively, Orders).

² See Domestic Interested Parties' Letter, “Domestic Interested Parties' Notice of Intent to Participate,” dated December 14, 2022 (Belarus); Domestic Interested Parties' Letter, “Domestic Interested Parties' Notice of Intent to Participate,” dated December 15, 2022 (Italy); Domestic Interested Parties' Letter, “Domestic Interested Parties' Notice of Intent to Participate,” dated December 15, 2022 (Korea); Domestic Interested Parties' Letter, “Domestic Interested Parties' Notice of Intent to Participate,” dated December 14, 2022 (Russia); Domestic Interested Parties' Letter, “Domestic Interested Parties' Notice of Intent to Participate,” dated December 14, 2022 (South Africa); Domestic Interested Parties' Letter, “Domestic Interested Parties' Notice of Intent to Participate,” dated December 14, 2022 (Spain); Domestic Interested Parties' Letter, “Domestic Interested Parties' Notice of Intent to Participate,” dated December 14, 2022 (Turkey); Domestic Interested Parties' Letter, “Domestic Interested Parties' Notice of Intent to Participate,” dated December 14, 2022 (Ukraine); Domestic Interested Parties' Letter, “Domestic Interested Parties' Notice of Intent to Participate,” dated December 14, 2022 (the UAE); and Domestic Interested Parties' Letter, “Domestic Interested Parties' Notice of Intent to Participate,” dated December 15, 2022 (United Kingdom).

Commerce received complete substantive responses to the Notice of Initiation with respect to the Orders from the domestic interested parties within the 30-day deadline specified in 19 CFR 351.218(d)(3)(i).³ Commerce received no substantive responses from respondent interested parties. As a result, pursuant to section 751(c)(3)(A) of the Act and 19 CFR 351.218(e)(1)(ii)(C)(2), Commerce conducted expedited (120-day) sunset reviews of the Orders.

³ See Domestic Interested Parties' Letter, “Domestic Interested Parties' Substantive Response,” dated December 29, 2022 (Belarus Substantive Response); Domestic Interested Parties' Letter, “Domestic Interested Parties' Substantive Response,” dated January 3, 2023 (Italy Substantive Response); Domestic Interested Parties' Letter, “Domestic Interested Parties' Substantive Response,” dated December 29, 2022 (Korea Substantive Response); Domestic Interested Parties' Letter, “Domestic Interested Parties' Substantive Response,” dated December 29, 2022 (Russia Substantive Response); Domestic Interested Parties' Letter, “Domestic Interested Parties' Substantive Response,” dated December 30, 2022 (South Africa Substantive Response); Domestic Interested Parties' Letter, “Domestic Interested Parties' Substantive Response,” dated December 30, 2022 (Spain Substantive Response); Domestic Interested Parties' Letter, “Domestic Interested Parties' Substantive Response,” dated December 30, 2022 (Turkey Substantive Response); Domestic Interested Parties' Letter, “Domestic Interested Parties' Substantive Response,” dated December 30, 2022 (Ukraine Substantive Response); Domestic Interested Parties' Letter, “Domestic Interested Parties' Substantive Response,” dated December 29, 2022 (UAE Substantive Response); and Domestic Interested Parties' Letter, “Domestic Interested Parties' Substantive Response,” dated December 29, 2022 (United Kingdom Substantive Response).

Scope of the Orders

The scope of the Orders is carbon and certain alloy steel wire rod from Belarus, Italy, Korea, Russia, South Africa, Spain, Turkey, Ukraine, the UAE, and the United Kingdom. The merchandise subject to the Orders is classified in the HTSUS at subheadings: 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise. Although the HTSUS subheadings are provided for convenience and customs purposes, the written product description remains dispositive.

For a full description of the scope of the Orders, see the Issues and Decision Memorandum.⁴

⁴ See Memorandum, “Issues and Decision Memorandum for the Final Results of the Expedited First Sunset Reviews of the Antidumping Duty Orders on Carbon and Certain Alloy Steel Wire Rod from Belarus, Italy, the Republic of Korea, the Russian Federation, the Republic of South Africa, Spain, the Republic of Turkey, Ukraine, the United Arab Emirates, and the United Kingdom,” dated concurrently with, and hereby adopted by, this notice (Issues and Decision Memorandum).

Analysis of Comments Received

A complete discussion of all issues raised in these sunset reviews is provided in the Issues and Decision Memorandum, including the likelihood of the continuation or recurrence of dumping and the magnitude of the margins of dumping likely to prevail if the Orders were revoked. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Final Results of the Sunset Reviews

Pursuant to sections 751(c)(1) and 752(c)(1) and (3) of the Act, Commerce determines that revocation of the Orders would likely lead to the continuation or recurrence of dumping and that the magnitude of the dumping margins likely to prevail would be up to 280.02 percent for Belarus, 18.89 percent for Italy, 41.10 percent for Korea, 756.93 percent for Russia, 142.26 percent for South Africa, 32.64 percent for Spain, 4.44 percent for Turkey, 44.03 percent for Ukraine, 84.10 percent for the UAE, and 147.63 percent for the United Kingdom.

Notification Regarding Administrative Protective Orders

This notice serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these results in accordance with sections 751(c), 752(c), and 777(i)(1) of the Act, and 19 CFR 351.221(c)(5)(ii).

Dated: March 8, 2023.
Lisa W. Wang,
Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins Likely To Prevail

VII. Final Results of Sunset Reviews

VIII. Recommendation

[FR Doc. 2023-05273 Filed 3-14-23; 8:45 am]

BILLING CODE 3510-DS-P